DEPARTMENT OF TRANSPORTATION

Federal Motor Carrier Safety Administration

[Docket No. FMCSA-2012-0154; FMCSA-2013-0121; FMCSA-2013-0124; FMCSA-2014-0384; FMCSA-2014-0386; FMCSA-2015-0328; FMCSA-2016-0002; FMCSA-2017-0057; FMCSA-2018-0135; FMCSA-2018-0137; FMCSA-2020-0028; FMCSA-2022-0034; FMCSA-2022-0035; FMCSA-2022-0036; FMCSA-2022-0037; FMCSA-2022-0038]

Qualification of Drivers; Exemption Applications; Hearing

AGENCY: Federal Motor Carrier Safety Administration (FMCSA), Department of Transportation (DOT).

ACTION: Notice of final disposition.

SUMMARY: FMCSA announces its decision to renew exemptions for 25 individuals from the hearing requirement in the Federal Motor Carrier Safety Regulations (FMCSRs) for interstate commercial motor vehicle (CMV) drivers. The exemptions enable these hard of hearing and deaf individuals to continue to operate CMVs in interstate commerce.

DATES: Each group of renewed exemptions were applicable on the dates stated in the discussions below and will expire on the dates provided below.

FOR FURTHER INFORMATION CONTACT: Ms. Christine A. Hydock, Chief, Medical Programs Division, FMCSA, DOT, 1200 New Jersey Avenue SE, Room W64-224, Washington, DC 20590-0001, (202) 366-4001, fmcsamedical@dot.gov. Office hours are 8:30 a.m. to 5 p.m. ET Monday through Friday, except Federal holidays. If you have questions regarding viewing or submitting material to the docket, contact Dockets Operations, (202) 366-9826.

SUPPLEMENTARY INFORMATION:

I. Public Participation

A. Viewing Comments

To view comments go to www.regulations.gov. Insert the docket number (FMCSA-2012-0154, FMCSA-2013-0121, FMCSA-2013-0124, FMCSA-2014-0384, FMCSA-2014-0386, FMCSA-2015-0328, FMCSA-2016-0002, FMCSA-2017-0057, FMCSA-2018-0135, FMCSA-2018-0137, FMCSA-2020-0028, FMCSA-2022-0034, FMCSA-2022-0035, FMCSA-2022-0036, FMCSA-2022-0037, or FMCSA-2022-0038) in the keyword box and click “Search.” Next, sort the results by “Posted (Newer-Older),” choose the first notice listed, and click “Browse Comments.” If you do not have access to the internet, you may view the docket online by visiting Dockets Operations on the ground floor of the DOT West Building, 1200 New Jersey Avenue SE, Washington, DC 20590-0001, between 9 a.m. and 5 p.m. ET Monday through Friday, except Federal holidays. To be sure someone is there to help you, please call (202) 366-9317 or (202) 366-9826 before visiting Dockets Operations.

B. Privacy Act

In accordance with 49 U.S.C. 31315(b)(6), DOT solicits comments from the public on the exemption requests. DOT posts these comments, without edit, including any personal information the commenter provides, to www.regulations.gov. As described in the system of records notice DOT/ALL 14 (Federal Docket Management System), which can be reviewed at https://www.transportation.gov/individuals/privacy/privacy-act-system-records-notices, the comments are searchable by the name of the submitter.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews safety analyses and public comments submitted and determines whether granting the exemption would likely achieve a level of safety equivalent to, or greater than, the level that would be achieved absent such exemption, pursuant to 49 U.S.C. 31315(b)(1. The Agency must publish its decision in the Federal Register (49 CFR 381.315(b)). If granted, the notice will identify the regulatory provision from which the applicant will be exempt the effective period, and all terms and conditions of the exemption (49 CFR 381.315(c)(1)). If the exemption is denied, the notice will explain the reason for the denial (49 CFR 381.315(c)(2)). The exemption may be renewed (49 CFR 381.300(b)). FMCSA grants medical exemptions from the FMCSRs for a 2-year period to align with the maximum duration of a driver's medical certification.

III. Background

On January 6, 2025, FMCSA published a notice announcing its decision to renew exemptions for 25 individuals from the hearing standard in 49 CFR 391.41(b)(11) to operate a CMV in interstate commerce and requested comments from the public (90 FR 722). The public comment period ended on February 5, 2025, and no comments were received.

FMCSA has evaluated the eligibility of these applicants and determined that renewing these exemptions would likely achieve a level of safety that is equivalent to, or greater than, the level that would be achieved by complying with § 391.41(b)(11).

The physical qualification standard for drivers regarding hearing found in § 391.41(b)(11) states that a person is physically qualified to drive a CMV if that person first perceives a forced whispered voice in the better ear at not less than 5 feet with or without the use of a hearing aid or, if tested by use of an audiometric device, does not have an average hearing loss in the better ear greater than 40 decibels at 500 Hz, 1,000 Hz, and 2,000 Hz with or without a hearing aid when the audiometric device is calibrated to American National Standard (formerly ASA Standard) Z24.5—1951.

This standard was adopted in 1970 and was revised in 1971 to allow drivers to be qualified under this standard while wearing a hearing aid (35 FR 6458, 6463 (Apr. 22, 1970) and 36 FR 12857 (July 8, 1971), respectively).

IV. Discussion of Comments

FMCSA received no comments in this proceeding.

V. Conclusion

Based upon its evaluation of the 25 renewal exemption applications and comments received, FMCSA announces its decision to exempt the following drivers from the hearing requirement in § 391.41 (b)(11).

As of January 15, 2025, and in accordance with 49 U.S.C. 31136(e) and 31315(b), the following 16 individuals have satisfied the renewal conditions for obtaining an exemption from the hearing requirement in the FMCSRs for interstate CMV drivers (90 FR 722):

Michael Arwood (TN)

David Chappelear (TX)

Jan Epitacio (CA)

Jerry Jones (TX)

Justin Kilgore (FL)

Robert Knapp (MD)

James Laughrey (KS)

Kathy Miller (IA)

Mayur Motiwale (ME)

Sarah Nickell (IN)

Lesley O'Rorke (IL)

Gerson Ramirez (MT)

Fernando Ramirez-Savon (FL)

Willine Smith (MD)

Dalton Taylor (OK)

Kevin Young (AL)

The drivers were included in docket number FMCSA-2012-0154, FMCSA-2013-0121, FMCSA-2013-0124, FMCSA-2017-0057, FMCSA-2018-0137, FMCSA-2024-0034, FMCSA-2022-0035, FMCSA-2022-0036, or FMCSA-2022-0037. Their exemptions were applicable as of January 15, 2025, and will expire on January 15, 2027.

As of January 22, 2025, and in accordance with 49 U.S.C. 31136(e) and 31315(b), the following six individuals have satisfied the renewal conditions for obtaining an exemption from the hearing requirement in the FMCSRs for interstate CMV drivers (90 FR 722):

Hassan Abdi (MN)

Jeffrey Daniel (NV)

Jaymes Haar (IA)

Andrew Hatch (IA)

Marckenzie Loriston (FL)

Carlos Sotelo Sanchez (CA)

The drivers were included in docket number FMCSA-2015-0328 or FMCSA-2020-0028. Their exemptions are applicable as of January 22, 2025, and will expire on January 22, 2027.

As of January 30, 2025, and in accordance with 49 U.S.C. 31136(e) and 31315(b), the following three individuals have satisfied the renewal conditions for obtaining an exemption from the hearing requirement in the FMCSRs for interstate CMV drivers:

Allen Carrasco (CA); Matthew Kaschalk (TN); and Erica Muhm (KY).

The drivers were included in docket number FMCSA-2022-0038. Their exemptions are applicable as of January 30, 2025, and will expire on January 30, 2027.

In accordance with 49 U.S.C. 31315(b), each exemption will be valid for 2 years from the effective date unless revoked earlier by FMCSA. The exemption will be revoked if the following occurs: (1) the person fails to comply with the terms and conditions of the exemption; (2) the exemption has resulted in a lower level of safety than was maintained prior to being granted; or (3) continuation of the exemption would not be consistent with the goals and objectives of 49 U.S.C. 31136, 49 U.S.C. chapter 313, or the FMCSRs.

Larry W. Minor,
Associate Administrator for Policy.

[FR Doc. 2025-05254 Filed 3-26-25; 8:45 am]

BILLING CODE 4910-EX-P